INTERNATIONAL TRADE COMMISSION

[Investigation No. 337-TA-1109]

Certain Clidinium Bromide and Products Containing Same; Commission Decision Not To Review an Initial Determination Granting Complainants' Unopposed Motion To Terminate the Investigation Based on the Withdrawal of the Amended Complaint; Termination of the Investigation

AGENCY: U.S. International Trade Commission.

ACTION: Notice.

SUMMARY: Notice is hereby given that the U.S. International Trade Commission has determined not to review an initial determination (“ID”) (Order No. 12) of the presiding Administrative Law Judge (“ALJ”) granting Complainants' unopposed motion to terminate the investigation in its entirety based on the withdrawal of the amended complaint. The investigation is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 23, 2018, based on a complaint filed by Valeant Pharmaceuticals North America LLC of Bridgewater, New Jersey and Valeant Pharmaceuticals International, Inc. of Laval, Canada (collectively, “Valeant”). See 83 FR 17676-7 (Apr. 23, 2018). The complaint, as amended, alleges violations of section 337 of the Tariff Act of 1930, as amended (19 U.S.C. 1337), based upon the importation into the United States, the sale for importation, and the sale within the United States after importation of certain clidinium bromide and products containing same by reason of unfair acts or methods of competition, the threat or effect of which is to destroy or substantially injure an industry in the United States. See id. The notice of investigation named as respondents in this investigation: Bi-Coastal Pharma International LLC and Bi-Coastal Pharmaceutical Corporation (collectively, “Bi-Coastal”) of Shrewsbury, New Jersey; ECI Pharmaceuticals LLC of Fort Lauderdale, Florida; Virtus Pharmaceuticals LLC of Tampa, Florida; and Virtus Pharmaceuticals OPCO II LLC of Nashville, Tennessee. See id. The Office of Unfair Import Investigations is also a party to this investigation. See id. On June 12, 2018, the ALJ partially terminated the investigation as to Bi-Coastal based on a settlement agreement. See Order No. 9 (June 12, 2018), unreviewed, Comm'n Notice (June 28, 2018).

On July 9, 2018, Valeant filed an unopposed motion (Motion) to terminate the investigation in its entirety based on the withdrawal of the amended complaint. On July 10, 2018, the ALJ issued the subject ID (Order No. 12) granting the Motion. In accordance with Commission Rule 210.21(a)(1), 19 CFR 210.21(a)(1), the ID notes that “[t]here are no agreements, written or oral, express or implied between Complainants and Respondents concerning the subject matter of this Investigation.” See ID at 1 (citing Motion at 2). In addition, the ID finds that “there are no extraordinary circumstances that warrant denying the motion.” See id.

No petition for review of the ID was filed. The Commission has determined not to review the ID.

The authority for the Commission's determination is contained in section 337 of the Tariff Act of 1930, as amended (19 U.S.C. 1337), and in part 210 of the Commission's Rules of Practice and Procedure (19 CFR part 210).

By order of the Commission.
Issued: July 27, 2018.
Lisa Barton,
Secretary to the Commission.

[FR Doc. 2018-16484 Filed 7-31-18; 8:45 am]

BILLING CODE 7020-02-P